DEPARTMENT OF ENERGY

Federal Energy Regulatory Commission

Combined Notice of Filings #1

Take notice that the Commission received the following electric rate filings:

Docket Numbers: ER15-2013-015; ER12-2510-012; ER15-2014-009; ER10-2435-022; ER10-2440-014; ER12-2512-012; ER19-481-005; ER18-2252-004; ER15-2022-008; ER15-2026-008.

Applicants: Susquehanna Nuclear, LLC, Montour, LLC, MC Project Company LLC, LMBE Project Company LLC, H.A. Wagner LLC, Dartmouth Power Associates Limited Partnership, Camden Plant Holdings, L.L.C., Brunner Island, LLC, Brandon Shores LLC, Talen Energy Marketing, LLC.

Description: Response to 11/05/2024, Updated Market Power Analysis of Talen Energy Marketing, LLC et al.

Filed Date: 12/5/24.

Accession Number: 20241205-5203.

Comment Date: 5 p.m. ET 12/26/24.

Docket Numbers: ER24-442-000.

Applicants: Innovative Solar 42, LLC.

Description: Supplement to 11/20/2023, Notice of Non-Material Change in Status and Revised Market-Based Rate of Innovative Solar 42, LLC.

Filed Date: 12/4/24.

Accession Number: 20241204-5282.

Comment Date: 5 p.m. ET 12/26/24.

Docket Numbers: ER25-18-001.

Applicants: AEP Indiana Michigan Transmission Company, Inc.

Description: Tariff Amendment: IMTCo-Pioneer (Greentown) O&M Agreement Amend Pending to be effective 11/22/2024.

Filed Date: 12/6/24.

Accession Number: 20241206-5061.

Comment Date: 5 p.m. ET 12/27/24.

Docket Numbers: ER25-72-001.

Applicants: American Transmission Systems, Incorporated, PJM Interconnection, L.L.C.

Description: Tariff Amendment: American Transmission Systems, Incorporated submits tariff filing per 35.17(b): ATSI submits Revised IA—SA No. 7218 to be effective 12/10/2024.

Filed Date: 12/6/24.

Accession Number: 20241206-5029.

Comment Date: 5 p.m. ET 12/27/24.

Docket Numbers: ER25-665-000.

Applicants: Southern California Edison Company.

Description: 205(d) Rate Filing: 1st Amendment IFA & DSA, City of Moreno Valley to be effective 12/7/2024.

Filed Date: 12/6/24.

Accession Number: 20241206-5082.

Comment Date: 5 p.m. ET 12/27/24.

Docket Numbers: ER25-666-000.

Applicants: Tri-State Generation and Transmission Association, Inc.

Description: 205(d) Rate Filing: Amendment to Rate Schedule FERC No. 16 to be effective 2/5/2025.

Filed Date: 12/6/24.

Accession Number: 20241206-5092.

Comment Date: 5 p.m. ET 12/27/24.

Docket Numbers: ER25-667-000.

Applicants: Pacific Gas and Electric Company.

Description: 205(d) Rate Filing: TO: Transmission Access Charge Balancing Account Adjustment (TACBAA) 2025 to be effective 3/1/2025.

Filed Date: 12/6/24.

Accession Number: 20241206-5111.

Comment Date: 5 p.m. ET 12/27/24.

Docket Numbers: ER25-668-000.

Applicants: Wheatridge East Wind, LLC.

Description: 205(d) Rate Filing: Wheatridge East Wind, LLC Application for Market-Based Rate Authorization to be effective 2/5/2025.

Filed Date: 12/6/24.

Accession Number: 20241206-5127.

Comment Date: 5 p.m. ET 12/27/24.

Docket Numbers: ER25-669-000.

Applicants: Alabama Power Company, Georgia Power Company, Mississippi Power Company, Southern Power Company.

Description: 205(d) Rate Filing: Alabama Power Company submits tariff filing per 35.13(a)(2)(iii: Ministerial Amendment of Southern's Tariff Vol. No. 4 to be effective 12/31/9998.

Filed Date: 12/6/24.

Accession Number: 20241206-5136.

Comment Date: 5 p.m. ET 12/27/24.

Docket Numbers: ER25-670-000.

Applicants: Rutherford Farm, LLC.

Description: 205(d) Rate Filing: Amendment of Rutherford Farm MBR Tariff to be effective 12/31/9998.

Filed Date: 12/6/24.

Accession Number: 20241206-5138.

Comment Date: 5 p.m. ET 12/27/24.

Docket Numbers: ER25-671-000.

Applicants: SP Butler Solar, LLC.

Description: 205(d) Rate Filing: Amendment of SP Butler Solar MBR Tariff to be effective 12/31/9998.

Filed Date: 12/6/24.

Accession Number: 20241206-5145.

Comment Date: 5 p.m. ET 12/27/24.

Docket Numbers: ER25-672-000.

Applicants: PJM Interconnection, L.L.C.

Description: 205(d) Rate Filing: Original GIA, Service Agreement No. 7425 to be effective 11/6/2024.

Filed Date: 12/6/24.

Accession Number: 20241206-5147.

Comment Date: 5 p.m. ET 12/27/24.

Docket Numbers: ER25-673-000.

Applicants: SP Decatur Parkway Solar, LLC.

Description: 205(d) Rate Filing: Amendment of SP Decatur Parkway Solar MBR Tariff to be effective 12/31/9998.

Filed Date: 12/6/24.

Accession Number: 20241206-5148.

Comment Date: 5 p.m. ET 12/27/24.

Docket Numbers: ER25-674-000.

Applicants: SP Pawpaw Solar, LLC.

Description: 205(d) Rate Filing: Amendment of SP Pawpaw MBR Tariff to be effective 12/31/9998.

Filed Date: 12/6/24.

Accession Number: 20241206-5149.

Comment Date: 5 p.m. ET 12/27/24.

Docket Numbers: ER25-675-000.

Applicants: SP Sandhills Solar, LLC.

Description: 205(d) Rate Filing: Amendment of SP Sandhills MBR Tariff to be effective 12/31/9998.

Filed Date: 12/6/24.

Accession Number: 20241206-5150.

Comment Date: 5 p.m. ET 12/27/24.

Docket Numbers: ER25-676-000.

Applicants: New York Independent System Operator, Inc., Power Authority of the State of New York.

Description: 205(d) Rate Filing: New York Independent System Operator, Inc. submits tariff filing per 35.13(a)(2)(iii): NYPA 205: Proposed Revisions re: Propel NY Project Cost Recovery to be effective 2/4/2025.

Filed Date: 12/6/24.

Accession Number: 20241206-5155.

Comment Date: 5 p.m. ET 12/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 6, 2024.
Carlos D. Clay,
Acting Deputy Secretary.

[FR Doc. 2024-29279 Filed 12-11-24; 8:45 am]

BILLING CODE 6717-01-P